DEPARTMENT OF HOUSING AND URBAN DEVELOPMENT

[Docket No. FR-6433-N-02]

Request for Information Regarding Iron, Steel, Construction Materials, and Manufactured Products Used in Housing Programs Pursuant to the Build America, Buy America Act; Extension of Comment Period

AGENCY: Office of the Secretary, Department of Housing and Urban Development (HUD).

ACTION: Extension of comment period for request for information.

SUMMARY: On February 13, 2024, the Department of Housing and Urban Development published in the Federal Register a document titled, “Request for Information Regarding Iron, Steel, Construction Materials, and Manufactured Products Used in Housing Programs Pursuant to the Build America, Buy America Act.” (RFI) The request for comment provided for a 60-day comment period, which ended on April 15, 2024. HUD has determined that a 45-day extension of the comment period is appropriate to allow interested persons additional time to provide responses. HUD is interested in comments relating to the domestic market for products required in housing infrastructure projects that are compliant with the Build America Preference (BAP), especially those detailing domestic materials sourcing, market readiness, other product supply considerations, and whether specific housing products or their components are manufactured in the United States.

DATES: The comment period for the request for comment published on February 13, 2024, at 89 FR 10090, is extended to June 17, 2024.

ADDRESSES: Interested persons are invited to submit comments on the request for information. Copies of all comments submitted are available for inspection and downloading at www.regulations.gov. To receive consideration as public comments, comments must be submitted through one of two methods, specified below. All submissions must refer to the above docket number and title.

1. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov website can be viewed by other commenters and interested members of the public. Commenters should follow the instructions provided on that site to submit comments electronically.

2. Submission of Comments by Mail. Comments may be submitted by mail to the Regulations Division, Office of General Counsel, Department of Housing and Urban Development, 451 7th Street SW, Room 10276, Washington, DC 20410-0500.

No Facsimile Comments. Facsimile (FAX) comments will not be accepted.

Public Inspection of Comments. All properly submitted comments and communications submitted to HUD will be available for public inspection and copying between 8:00 a.m. and 5:00 p.m. weekdays at the above address. Due to security measures at the HUD Headquarters building, an advance appointment to review the submissions must be scheduled by calling the Regulations Division at (202) 708-3055 (this is not a toll-free number). HUD welcomes and is prepared to receive calls from individuals who are deaf or hard of hearing, as well as individuals with speech and communication disabilities. To learn more about how to make an accessible telephone call, please visit https://www.fcc.gov/consumers/guides/telecommunicationsrelay-service-trs.

Copies of all submissions are available for inspection and downloading at www.regulations.gov.

FOR FURTHER INFORMATION CONTACT: Faith Rogers, Department of Housing and Urban Development, 451 Seventh Street SW, Room 10126, Washington, DC 20410-5000, at (202) 402-7082 (this is not a toll-free number). HUD welcomes and is prepared to receive calls from individuals who are deaf or hard of hearing, as well as individuals with speech and communication disabilities. To learn more about how to make an accessible telephone call, please visit https://www.fcc.gov/consumers/guides/telecommunicationsrelay-service-trs. HUD encourages submission of questions about this document be sent to BuildAmerica BuyAmerica@hud.gov.

SUPPLEMENTARY INFORMATION: The Build America, Buy America Act (BABA), enacted on November 15, 2021, establishes a domestic procurement preference, the BAP, which HUD must implement to ensure that iron, steel, manufactured products, and construction materials used for infrastructure projects are produced in the United States. HUD has worked to develop an implementation plan across its Federal Financial Assistance (FFA) programs, including publishing a “Request for Information Relating to the Implementation of the Build America, Buy America Act” on June 1, 2022. In furtherance of its implementation plan, HUD published in the Federal Register a document titled “Request for Information Regarding Iron, Steel, Construction Materials, and Manufactured Products Used in Housing Programs Pursuant to the Build America, Buy America Act.” The request for information solicits comment input to improve HUD's understanding of the current state of the domestic market for products required in housing infrastructure projects.

While the request for information originally provided for a 30-day comment period, in consultation with the Office of Management and Budget's Made in America Office HUD has determined that extending the public comment period by an additional 45 days will better allow the public to submit comments that will help HUD gather information necessary to fully implement the BAP. Thus, HUD is extending the date for public comment until June 17, 2024.

Aaron Santa Anna,
Associate General Counsel for Legislation and Regulations.

[FR Doc. 2024-09489 Filed 5-1-24; 8:45 am]

BILLING CODE 4210-67-P